DEPARTMENT OF THE INTERIOR

Bureau of Land Management

[CO-921-06-1320-EL; COC 69822]

Notice of Invitation for Coal Exploration License Application, Western Fuels-Colorado, LLC. COC 69822; Colorado

AGENCY: Bureau of Land Management, Interior.

ACTION: Notice.

SUMMARY: Pursuant to the Mineral Leasing Act of February 25, 1920, as amended, and to Title 43, Code of Federal Regulations, subpart 3410, members of the public are hereby invited to participate with Western Fuels-Colorado, LLC, in a program for the exploration of unleased coal deposits owned by the United States of America containing approximately 10,810.40 acres in Montrose County, Colorado.

DATES: Written Notice of Intent to Participate should be addressed to the attention of the following persons and must be received by them by May 24, 2006.

ADDRESSES: Karen Zurek, CO-921, Solid Minerals Staff, Division of Energy, Lands and Minerals, Colorado State Office, Bureau of Land Management, 2850 Youngfield Street, Lakewood, Colorado 80215; and, Murari Threstha, Western Fuels-Colorado, LLC, P.O. Box 33424, Denver, Colorado 80233-3424.

FOR FURTHER INFORMATION, CONTACT: Karen Zurek at (303) 239-3795.

SUPPLEMENTARY INFORMATION: The application for coal exploration license is available for public inspection during normal business hours under serial number COC 69822 at the Bureau of Land Management, Colorado State Office, 2850 Youngfield Street, Lakewood, Colorado 80215, and at the Uncompahgre Field Office, 2505 South Townsend Avenue, Montrose, Colorado 81401. Any party electing to participate in this program must share all costs on a pro rata basis with Western Fuels-Colorado, LLC, and with any other party or parties who elect to participate.

Dated: March 17, 2006.
Karen Zurek,
Solid Minerals Staff, Division of Energy, Lands and Minerals.

[FR Doc. E6-6062 Filed 4-21-06; 8:45 am]

BILLING CODE 4310-JB-P